ENVIRONMENTAL PROTECTION AGENCY

40 CFR Part 300

[EPA-HQ-SFUND-1987-0002; FRL-9997-43-Region 7]

National Oil and Hazardous Substances Pollution Contingency Plan; National Priorities List: Partial Deletion of the Shaw Avenue Dump Superfund Site

AGENCY: Environmental Protection Agency (EPA).

ACTION: Final rule.

SUMMARY: The Environmental Protection Agency (EPA) Region 7 announces the deletion of Operable Unit 1—Chemical Fill and Contaminated Soil (OU1) of the Shaw Avenue Dump Superfund Site (Site) located in Charles City, Floyd County, Iowa, from the National Priorities List (NPL). The NPL, promulgated pursuant to section 105 of the Comprehensive Environmental Response, Compensation, and Liability Act (CERCLA) of 1980, as amended, is an appendix of the National Oil and Hazardous Substances Pollution Contingency Plan (NCP). This partial deletion pertains to Operable Unit (OU) 1—Chemical Fill and Contaminated Soil. OU 2—Groundwater will remain on the NPL and is not being considered for deletion as part of this action. The EPA and the State of Iowa, through the Iowa Department of Natural Resources, determined that all appropriate response actions under CERCLA other than operations and maintenance and five-year reviews have been completed at OU1. However, this deletion does not preclude future actions under CERCLA.

DATES: This action is effective August 8, 2019.

ADDRESSES: EPA has established a docket for this action under Docket ID no. EPA-HQ-SFUND-1987-0002. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or in hard copy at the Site information repository. Locations, contacts, and viewing hours of the Site information repository are listed below:

• EPA Region 7, 11201 Renner Boulevard, Lenexa, Kansas 66219, open from 8:00 a.m. to 4:00 p.m. Monday-Friday, excluding Federal holidays.

FOR FURTHER INFORMATION CONTACT: Elizabeth Hagenmaier, Remedial Project Manager, U.S. Environmental Protection Agency, Region 7, SEMD/LMSE, 11201 Renner Boulevard, Lenexa, KS 66219, telephone (913) 551-7939, email: hagenmaier.elizabeth@epa.gov.

SUPPLEMENTARY INFORMATION: The portion of the Site to be deleted from the NPL is Operable Unit 1—Chemical Fill and Contaminated Soil of the Shaw Avenue Dump Superfund site, Charles City, Iowa. A Notice of Intent for Partial Deletion for this Site was published in the Federal Register on June 4, 2019 (84 FR 25725).

The closing date for comments on the Notice of Intent for Partial Deletion was July 5, 2019. No public comments were received, and EPA has determined it will proceed with the partial deletion.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous substances, Hazardous waste, Intergovernmental relations, Penalties, Reporting and recordkeeping requirements, Superfund, Water pollution control, Water supply.

Dated: August 2, 2019.
James Gulliford,
Regional Administrator, Region 7.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Table 1 of appendix B to part 300 is amended by revising the listing under Iowa for “Shaw Avenue Dump” to read as follows:

Appendix B to Part 300—National Priorities List

Table 1—General Superfund Section
State | Site name | City/county | Notes (a)
* * * * * * *
IA | Shaw Avenue Dump | Charles City | P
* * * * * * *
(a) = Based on issuance of health advisory by Agency for Toxic Substances and Disease Registry (if scored, HRS score need not be greater than or equal to 28.50).
* * * * * * *
* P = Sites with partial deletion(s).
* * * * * * *

[FR Doc. 2019-16904 Filed 8-7-19; 8:45 am]

BILLING CODE 6560-50-P